DEPARTMENT OF ENERGY

Federal Energy Regulatory Commission

Combined Notice of Filings

Take notice that the Commission has received the following Natural Gas and Oil Pipeline Rate and Refund Report filings:

Filings Instituting Proceedings

Docket Numbers: PR23-74-000.

Applicants: Targa SouthTex Transmission LP.

Description: Tariff Amendment: Cancellation entire tariff to be effective 9/28/2023.

Filed Date: 9/28/23.

Accession Number: 20230928-5066.

Comment Date: 5 p.m. ET 10/19/23.

Docket Numbers: RP23-1072-000.

Applicants: Cheyenne Connector, LLC.

Description: Compliance filing: CC 2023-09-27 Cost and Revenue Study (Docket No. CP18-102) to be effective N/A.

Filed Date: 9/27/23.

Accession Number: 20230927-5078.

Comment Date: 5 p.m. ET 10/10/23.

Docket Numbers: RP23-1073-000.

Applicants: Southern Star Central Gas Pipeline, Inc.

Description: § 4(d) Rate Filing: Operational Flow Order Tariff Revisions to be effective 11/1/2023.

Filed Date: 9/27/23.

Accession Number: 20230927-5079.

Comment Date: 5 p.m. ET 10/10/23.

Docket Numbers: RP23-1074-000.

Applicants: El Paso Natural Gas Company, L.L.C.

Description: § 4(d) Rate Filing: Negotiated Rate Agreement Update (Conoco Oct 2023) to be effective 10/1/2023.

Filed Date: 9/27/23.

Accession Number: 20230927-5082.

Comment Date: 5 p.m. ET 10/10/23.

Docket Numbers: RP23-1075-000.

Applicants: Dauphin Island Gathering Partners.

Description: § 4(d) Rate Filing: Negotiated Rate Filing—10.01.23 Chevron MDQ to be effective 10/1/2023.

Filed Date: 9/27/23.

Accession Number: 20230927-5096.

Comment Date: 5 p.m. ET 10/10/23.

Docket Numbers: RP23-1076-000.

Applicants: Transwestern Pipeline Company, LLC.

Description: § 4(d) Rate Filing: Non-Conforming Agreements—Related to 2023 Settlement_2 to be effective 9/1/2023.

Filed Date: 9/27/23.

Accession Number: 20230927-5104.

Comment Date: 5 p.m. ET 10/10/23.

Docket Numbers: RP23-1077-000.

Applicants: Transwestern Pipeline Company, LLC.

Description: § 4(d) Rate Filing: Update Non-Conforming List for 09-01-23 to be effective 9/1/2023.

Filed Date: 9/27/23.

Accession Number: 20230927-5106.

Comment Date: 5 p.m. ET 10/10/23.

Docket Numbers: RP23-1078-000.

Applicants: Alliance Pipeline L.P.

Description: § 4(d) Rate Filing: Negotiated Rates—Various Oct 1 2023 Releases to be effective 10/1/2023.

Filed Date: 9/28/23.

Accession Number: 20230928-5005.

Comment Date: 5 p.m. ET 10/10/23.

Docket Numbers: RP23-1079-000.

Applicants: Alliance Pipeline L.P.

Description: § 4(d) Rate Filing: APL 2023 Fuel Filing to be effective 11/1/2023.

Filed Date: 9/28/23.

Accession Number: 20230928-5007.

Comment Date: 5 p.m. ET 10/10/23.

Docket Numbers: RP23-1080-000.

Applicants: Viking Gas Transmission Company.

Description: § 4(d) Rate Filing: Semi-Annual Fuel and Losses Retention Adjustment—Winter 2023 Rate to be effective 11/1/2023.

Filed Date: 9/28/23.

Accession Number: 20230928-5043.

Comment Date: 5 p.m. ET 10/10/23.

Docket Numbers: RP23-1081-000.

Applicants: Midwestern Gas Transmission Company.

Description: § 4(d) Rate Filing: Annual Load Management Service Cost Reconciliation Adjustment—2023 to be effective 11/1/2023.

Filed Date: 9/28/23.

Accession Number: 20230928-5059.

Comment Date: 5 p.m. ET 10/10/23.

Docket Numbers: RP23-1082-000.

Applicants: Midcontinent Express Pipeline LLC.

Description: § 4(d) Rate Filing: Non-Conforming Agreements (XTO Energy and FPL Nov 23) to be effective 11/1/2023.

Filed Date: 9/28/23.

Accession Number: 20230928-5061.

Comment Date: 5 p.m. ET 10/10/23.

Docket Numbers: RP23-1083-000.

Applicants: El Paso Natural Gas Company, L.L.C.

Description: § 4(d) Rate Filing: Negotiated Rate Agreements Update (Pioneer Oct-Dec 2023) to be effective 10/1/2023.

Filed Date: 9/28/23.

Accession Number: 20230928-5063.

Comment Date: 5 p.m. ET 10/10/23.

Docket Numbers: RP23-1084-000.

Applicants: Guardian Pipeline, L.L.C.

Description: § 4(d) Rate Filing: Electric Power Cost Recovery Surcharge Adjustment—Fall 2023 to be effective 11/1/2023.

Filed Date: 9/28/23.

Accession Number: 20230928-5065.

Comment Date: 5 p.m. ET 10/10/23.

Docket Numbers: RP23-1085-000.

Applicants: El Paso Natural Gas Company, L.L.C.

Description: § 4(d) Rate Filing: Negotiated Rate Agreement Update (SoCal Oct-Dec 2023) to be effective 10/2/2023.

Filed Date: 9/28/23.

Accession Number: 20230928-5069.

Comment Date: 5 p.m. ET 10/10/23.

Docket Numbers: RP23-1086-000.

Applicants: Guardian Pipeline, L.L.C.

Description: § 4(d) Rate Filing: Transporters Use Gas Annual Adjustment—Fall 2023 to be effective 11/1/2023.

Filed Date: 9/28/23.

Accession Number: 20230928-5073.

Comment Date: 5 p.m. ET 10/10/23.

Docket Numbers: RP23-1087-000.

Applicants: Tennessee Gas Pipeline Company, L.L.C.

Description: § 4(d) Rate Filing: Volume No. 2—SWN SP359400 and Nat Fuel SP92985 to be effective 11/1/2023.

Filed Date: 9/28/23.

Accession Number: 20230928-5089.

Comment Date: 5 p.m. ET 10/10/23.

Docket Numbers: RP23-1088-000.

Applicants: Wyoming Interstate Company, L.L.C.

Description: Compliance filing: Bakken Leased Capacity Implementation Compliance Filing in Docket No. CP22-508 to be effective 11/1/2023.

Filed Date: 9/28/23.

Accession Number: 20230928-5091.

Comment Date: 5 p.m. ET 10/10/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 28, 2023.
Debbie-Anne A. Reese,
Deputy Secretary.

[FR Doc. 2023-22016 Filed 10-3-23; 8:45 am]

BILLING CODE 6717-01-P